DEPARTMENT OF ENERGY

Federal Energy Regulatory Commission

Combined Notice of Filings #1

Take notice that the Commission received the following exempt wholesale generator filings:

Docket Numbers: EG14-20-000.

Applicants: Pleasant Valley Wind, LLC.

Description: Notice of Self-Certification of EG of Pleasant Valley Wind, LLC.

Filed Date: 12/17/13.

Accession Number: 20131217-5279.

Comments Due: 5 p.m. ET 1/7/14.

Docket Numbers: EG14-21-000.

Applicants: SG2 Imperial Valley LLC.

Description: Notice of Self-Certification Exempt Wholesale Generator Status of SG2 Imperial Valley LLC.

Filed Date: 12/18/13.

Accession Number: 20131218-5048.

Comments Due: 5 p.m. ET 1/8/14.

Take notice that the Commission received the following electric rate filings:

Docket Numbers: ER12-1813-002.

Applicants: The Empire District Electric Company.

Description: The Empire District Electric Company submits Compliance Filing to be effective 12/18/2013.

Filed Date: 12/18/13.

Accession Number: 20131218-5079.

Comments Due: 5 p.m. ET 1/8/14.

Docket Numbers: ER12-2068-004.

Applicants: Blue Sky East, LLC.

Description: Blue Sky East, LLC submits Revised Market-Based Rate Tariff Filing in Compliance with Order No. 784 to be effective 12/19/2013.

Filed Date: 12/18/13.

Accession Number: 20131218-5050.

Comments Due: 5 p.m. ET 1/8/14.

Docket Numbers: ER12-2265-001.

Applicants: Canandaigua Power Partners, LLC.

Description: Canandaigua Power Partners, LLC submits Revised Market-Based Rate Tariff Filing in Compliance with Order No. 784 to be effective 12/19/2013.

Filed Date: 12/18/13.

Accession Number: 20131218-5053.

Comments Due: 5 p.m. ET 1/8/14.

Docket Numbers: ER13-80-002.

Applicants: Tampa Electric Company.

Description: Tampa Electric Company submits OATT Order No. 1000 Compliance Filing 2013 to be effective 1/1/2015.

Filed Date: 12/17/13.

Accession Number: 20131217-5186.

Comments Due: 5 p.m. ET 1/16/14.

Docket Numbers: ER13-86-002.

Applicants: Duke Energy Florida, Inc., Duke Energy Carolinas, LLC.

Description: Duke Energy Florida, Inc. submits Order No. 1000 Second Regional Compliance Filing—DEF to be effective 1/1/2015.

Filed Date: 12/17/13.

Accession Number: 20131217-5167.

Comments Due: 5 p.m. ET 1/16/14.

Docket Numbers: ER13-836-002.

Applicants: MATL LLP.

Description: MATL LLP submits Attachment K Filing to be effective 2/17/2014.

Filed Date: 12/17/13.

Accession Number: 20131217-5258.

Comments Due: 5 p.m. ET 1/7/14.

Docket Numbers: ER13-1768-001.

Applicants: Southwest Power Pool, Inc.

Description: Southwest Power Pool, Inc. submits Integrated Marketplace—Attachment AN-SPP BA Agreement Compliance to be effective 3/1/2014.

Filed Date: 12/18/13.

Accession Number: 20131218-5038.

Comments Due: 5 p.m. ET 1/8/14.

Docket Numbers: ER13-2130-001.

Applicants: Minco Wind Interconnection Services, LLC.

Description: Minco Wind Interconnection Services, LLC submits Minco Wind Interconnection Services, LLC Amendment to MBR Tariff to be effective 12/19/2013.

Filed Date: 12/18/13.

Accession Number: 20131218-5068.

Comments Due: 5 p.m. ET 1/8/14.

Docket Numbers: ER14-363-001.

Applicants: South Carolina Electric & Gas Company.

Description: South Carolina Electric & Gas Company submits Schedule 14 re-file to be effective 8/31/2010.

Filed Date: 12/18/13.

Accession Number: 20131218-5043.

Comments Due: 5 p.m. ET 1/8/14.

Docket Numbers: ER14-650-000.

Applicants: The United Illuminating Company.

Description: The United Illuminating Company submits Localized Costs Sharing Agreement with Town of Wallingford to be effective 1/1/2014.

Filed Date: 12/17/13.

Accession Number: 20131217-5257.

Comments Due: 5 p.m. ET 1/7/14.

Docket Numbers: ER14-651-000.

Applicants: Southern California Edison Company.

Description: Southern California Edison Company submits SGIA and Distribution Service Agreement with Lancaster Little Rock B LLC to be effective 12/19/2013.

Filed Date: 12/17/13.

Accession Number: 20131218-5001.

Comments Due: 5 p.m. ET 1/7/14.

Docket Numbers: ER14-652-000.

Applicants: Southern California Edison Company.

Description: Southern California Edison Company submits SGIA and Distribution Serv Agmt with Garnet Solar Power Generation Station 1 LLC to be effective 12/19/2013.

Filed Date: 12/18/13.

Accession Number: 20131218-5003.

Comments Due: 5 p.m. ET 1/8/14.

Docket Numbers: ER14-653-000.

Applicants: Southern California Edison Company.

Description: Southern California Edison Company submits SGIA and Distribution Service Agreement with Lancaster Little Rock A LLC to be effective 12/19/2013.

Filed Date: 12/18/13.

Accession Number: 20131218-5004.

Comments Due: 5 p.m. ET 1/8/14.

Docket Numbers: ER14-654-000.

Applicants: Southern California Edison Company.

Description: Southern California Edison Company submits Amended SGIA with RE Columbia 3 LLC to be effective 2/17/2014.

Filed Date: 12/18/13.

Accession Number: 20131218-5005.

Comments Due: 5 p.m. ET 1/8/14.

Docket Numbers: ER14-655-000.

Applicants: Bangor Hydro Electric Company.

Description: Bangor Hydro Electric Company submits Filing to Effect Succession to Rate Schedules and Service Agreements to be effective 1/1/2014.

Filed Date: 12/18/13.

Accession Number: 20131218-5023.

Comments Due: 5 p.m. ET 1/8/14.

Docket Numbers: ER14-656-000.

Applicants: Maine Public Service Company.

Description: Maine Public Service Company submits Filing to Effect Cancellation of Existing eTariff Database to be effective 1/1/2014.

Filed Date: 12/18/13.

Accession Number: 20131218-5024.

Comments Due: 5 p.m. ET 1/8/14.

Docket Numbers: ER14-657-000.

Applicants: Black River Macro Discretionary Fund Ltd.

Description: Black River Macro Discretionary Fund Ltd. submits notice of cancellation of its market-based rate tariff, effective 12/1/13.

Filed Date: 12/17/13.

Accession Number: 20131218-0001.

Comments Due: 5 p.m. ET 1/7/14.

Docket Numbers: ER14-658-000.

Applicants: Black River Commodity Energy Fund LLC.

Description: Black River Commodity Energy Fund LLC submits notice of cancellation of its market-based rate tariff, effective 12/1/13.

Filed Date: 12/17/13.

Accession Number: 20131218-0002.

Comments Due: 5 p.m. ET 1/7/14.

Docket Numbers: ER14-659-000.

Applicants: Midcontinent Independent System Operator, Inc.

Description: Midcontinent Independent System Operator, Inc. submits 12-18-2013 SA 2623 MidAm-NIPCO GFA#479 to be effective 12/19/2013.

Filed Date: 12/18/13.

Accession Number: 20131218-5025.

Comments Due: 5 p.m. ET 1/8/14.

Docket Numbers: ER14-660-000.

Applicants: Plant-E Corp.

Description: Plant-E Corp submits Initial Filing to be effective 2/20/2014.

Filed Date: 12/18/13.

Accession Number: 20131218-5039.

Comments Due: 5 p.m. ET 1/8/14.

Take notice that the Commission received the following electric reliability filings.

Docket Numbers: RD14-2-000.

Applicants: North American Electric Reliability Corporation.

Description: Petition of the North American Electric Reliability Corporation for Approval of Revisions to the Definition of “Bulk Electric System” and Request for Expedited Action.

Filed Date: 12/13/13.

Accession Number: 20131213-5280.

Comments Due: 5 p.m. ET 1/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2013.
Nathaniel J. Davis, Sr.,
Deputy Secretary.

[FR Doc. 2013-31096 Filed 12-27-13; 8:45 am]

BILLING CODE 6717-01-P